DEPARTMENT OF ENERGY

National Energy Technology Laboratory; Notice of Availability of a Financial Assistance Solicitation

AGENCY: National Energy Technology Laboratory, Department of Energy (DOE).

ACTION: Notice of Availability of a Financial Assistance Solicitation.

SUMMARY: Notice is hereby given of the intent to issue Financial Assistance Solicitation No. DE-PS26-03NT15391 entitled “Advanced and Key Oilfield Technologies for Independents.” The Department of Energy (DOE) National Energy Technology Laboratory (NETL), on behalf of its National Petroleum Technology Office (NPTO), seeks applications for cost-shared development and demonstration projects using advanced and key oilfield technologies in the United States. The proposed project should address a technical risk that results in the technology's full acceptance by the independents. The goal is to provide technical solutions to issues that are limiting domestic on-shore or off-shore oil exploration and production by independent oil producing companies while providing the same or higher levels of environmental protection expected under the law. Applications will either address: (1) Existing Fields or (2) Exploration.

DATES: The solicitation will be available on the DOE/NETL's Internet address at http://www.netl.doe.gov/business and on the “Industry Interactive Procurement System” (IIPS) Web page located at http://e-center.doe.gov on or about December 10, 2002.

FOR FURTHER INFORMATION CONTACT: Keith R. Miles, U.S. Department of Energy, National Energy Technology Laboratory, P.O. Box 10940, MS 921-107, Pittsburgh, PA 15236, E-mail Address: miles@netl.doe.gov, Telephone Number: 412-386-5984.

SUPPLEMENTARY INFORMATION: The goals of the Department of Energy's Fossil Energy Oil Program are derived from the National need for increased oil production as a part of the national security, requirements for Federal Lands stewardship, and increased protection of the environment. The Oil Reservoir Life Extension Program supports those goals. In addition, the program supports the National Energy Policy goals to increase domestic oil exploration through continued partnership with public and private entities and to promote enhanced oil recovery from existing wells through new technology. By providing demonstrations of new technologies and approaches that improve oil recovery and increase reserves the oil program will increase the domestic oil supply. The Department of Energy Oil Program has, through funding by Congress focused on the needs of the Nation's independent oil producers. The Administration also addressed the needs of the independent oil producer in the National Energy Policy when they recognized that, “Small independent businesses account for 50-65% of domestic petroleum and natural gas production in the lower 48 states.” Independent producers have rapidly moved operations into regions that were traditionally explored and operated by the major oil companies. Recently many of the Nation's independent producers placed in the ranks of the top 20 producing companies in the United States. They currently maintain 63% of the oil reserves and 62% of the oil production. They control 50% of the gas reserves and 52% of the gas production. This program builds on the successful reservoir field demonstrations in the Research with Independents program by expanding the research and demonstration opportunities for independent producers to more complex, higher risk projects. Projects selected would be mid-term projects that could impact Independent production capabilities and thus have a potential for significant impact on domestic production and proved reserves, thereby increasing energy security and supply. Mid-term projects should have results in 5-10 years. The projects should encourage other independents to adopt the use of advanced and key technologies that prove successful in the future exploration and development of domestic reserves.

Projects do not need to be limited to one area of operations. They may address multiple technologies such as exploration, drilling and completion, well stimulation, enhanced oil recovery or other operational issues. The proposed project must however address the identified problems in such a way that evaluation of the success or failure can occur and the reasons can be attributed clearly to the technology.

The two areas of interest for this solicitation are:

Area of Interest 1—Existing Fields—The projects in this area will promote the goals of the National Energy Policy to use new technology to promote enhanced oil and gas recovery in established areas of production. It addresses the technical risk associated with developing, testing and deploying an advanced or key technology under actual field conditions. This program provides the connection between the laboratory and the oilfield and applications are expected to provide documentation of the need for this technology and the problem that it will address. The program allows continued development of a technology to create evolutionary improvements in performance and then the demonstration of such improvements in actual field conditions.

Area of Interest 2—Exploration—The projects in this area target the National Energy Policy goal of advancing exploration methodologies and technologies through the partnership with the independent producers conducting exploration. The DOE will partner with independent producers and others in an effort to push the limits of standard exploration technologies and to improve them. Applications are expected to describe the overall exploration problem and propose the technical solution to the identified problem. They should address the need of the independent producer with regard to a region and show that the project provides such a solution to the problem or problems.

DOE anticipates awarding approximately four (4) or five (5) financial assistance (i.e., Cooperative Agreements) with a project performance period no less than three years in length and no more than five years in length. Approximately $7.0 million of DOE funding is planned over a 3-year period for this solicitation. The proposed projects will contain a field demonstration and as such under the Energy Policy Act of 1992 a minimum of 50% cost share of the total estimated project cost is required. The maximum DOE share of an award will be $2000K.

This competitive solicitation is open to any business, educational institution or state agency and is for the benefit of domestic independent producers. Moreover, for the purposes of this solicitation, an Independent operator shall be a non-integrated company which receives most of its revenue from crude oil or natural gas production at the wellhead. Independents are exclusively in the exploration and production segment of the industry with no retail outlets, marketing or refining operations. Applications submitted by or on behalf of (1) another Federal agency; (2) a Federally Funded Research and Development Center sponsored by another Federal agency; or (3) a Department of Energy (DOE) Management Operating (M&O) contractor will not be eligible for award under this solicitation. However, an application that includes performance of a portion of the work by a DOE M&O contractor will be evaluated and may be considered for award subject to the provisions to be set forth in Program Solicitation DE-PS26-03NT15391.

(Note: The limit on participation by an M&O contractor for an individual project under this solicitation cannot exceed 25% of the total project cost).

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on November 22, 2002.
Dale A. Siciliano,
Director, Acquisition and Assistance Division.

[FR Doc. 02-30408 Filed 11-29-02; 8:45 am]

BILLING CODE 6450-01-P